DEPARTMENT OF LABOR

Employment and Training Administration

Notice of a Change in Status of the Extended Benefit (EB) Program for Connecticut, District of Columbia, Massachusetts, Michigan, New Jersey, New Mexico, and Nevada

AGENCY: Employment and Training Administration, Labor.

ACTION: Notice.

This notice announces changes in benefit period eligibility under the EB program that have occurred since the publication of the last notice regarding the States' EB status:

• Nevada completed the mandatory 13-week “off” period for a High Unemployment Period (HUP) on March 27, 2021, and based on the data released by the Bureau of Labor Statistics (BLS) on January 26, 2021, the seasonally-adjusted total unemployment rate (TUR) for Nevada continued to exceed the 8.0 percent threshold necessary to trigger “on” to an HUP. Therefore, on March 28, 2021 the maximum potential entitlement for claimants in the EB program will increase from 13 weeks to 20 weeks.

• Based on data released on March 15, 2021 by BLS, the seasonally-adjusted 3-month average TUR for Connecticut, the District of Columbia, Massachusetts and New Mexico rose above the 8.0 percent threshold necessary to trigger “on” to an HUP. Beginning April 4, 2021 the maximum potential entitlement for claimants in the EB program for these states increased from 13 weeks to 20 weeks.

• Based on data released by BLS on March 26, 2021:

○ The seasonally-adjusted TUR for Michigan fell below the 6.5 percent threshold necessary to remain “on” EB. The payable period for Michigan in the EB program will end on April 17, 2021. The state will remain in an “off” period for a minimum of 13 weeks.

○ the seasonally-adjusted TUR for New Jersey fell below the 8.0 percent threshold necessary to remain “on” an HUP in the EB program. Beginning April 18, 2021, the maximum potential entitlement for claimants in New Jersey will decrease from 20 weeks to 13 weeks.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13 (c) (1)).

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
Suzan G. LeVine,
Principal Deputy Assistant Secretary for Employment and Training.

[FR Doc. 2021-08726 Filed 4-26-21; 8:45 am]

BILLING CODE 4510-FW-P